ENVIRONMENTAL PROTECTION AGENCY

[ER-FRL-6656-6]

Environmental Impact Statements; Notice of Availability

Responsible Agency: Office of Federal Activities, General Information (202) 564-7167 or http://www.epa.gov/compliance/nepa/

Weekly receipt of Environmental Impact Statements Filed October 4, 2004 Through October 8, 2004 Pursuant to 40 CFR 1506.9.

EIS No. 040477, Final EIS, AFS, ID, North Sheep Allotments—Sheep and Goat Allotment Management Plans, To Authorize Continued Sheep Grazing for Fisher Creek, Smiley Creek, North Fork-Boulder and Baker Creek Sheep and Goat Grazing Allotments, Sawtooth National Forest, Ketchum Ranger District, Sawtooth National Recreation Area, Blaine and Custer Counties, ID, Wait Period Ends: November 15, 2004, Contact: Carol Brown (208) 727-5000.

EIS No. 040478, Draft EIS, FAA, PA, Philadelphia International Airport Project, Proposed Runway 17-35 Extension Project, Funding, NPDES Permit and U.S. Army COE Section 404 Permit, Philadelphia, PA, Comment Period Ends: November 29, 2004, Contact: Susan McDonald (717) 730-2833.

EIS No. 040479, Revised Draft EIS, JUS, AZ, Programmatic EIS—Office of Border Patrol Operational Activities within the Border Areas of the Tucson and Yuma Sectors, Expansion of Operations of Technology-Based Systems, Completion and Maintenance of Approved Infrastructure, Cochise, Pima, Santa Cruz, and Yuma Counties, AZ, Comment Period Ends: November 29, 2004, Contact: Mark Doles (817) 886-6499.

EIS No. 040480, Final EIS, USA, UT, Activities Associated with Future Programs at U.S. Army Dugway Proving Ground, Implementation, Tooele and Jaub Counties, UT, Wait Period Ends: November 15, 2004, Contact: Nicholas J. Cavallaro (410) 278-1084.

EIS No. 040481, Draft Supplement, AFS, AK, Emerald Bay Timber Sale, Implementation, Additional Information on the Potential Effects of the Project Alternatives, Ketchikan-Misty Fiords Ranger District, Tongass National Forest, AK, Comment Period Ends: November 29, 2004, Contact: John Natvig (605) 720-7710.

EIS No. 040482, Draft EIS, FHW, PA, U.S. 219Improvements Project, Meyersdale to Somerset, SR 6219, Section 020, Funding, U.S. COE Section 404 Permit, Somerset County, PA, Comment Period Ends: November 30, 2004, Contact: James A. Cheatham (717) 221-3461.

EIS No. 040483, Final EIS, FHW, MO, MO-17 Transportation Improvement Project, South of Route O to South of Howell County Line Bridge Replacement with Approaches, Funding, U.S. COE Section 404 Permit, Shannon, Texas, and Howell Counties, MO, Wait Period Ends: November 15, 2004, Contact: Don Neumann (573) 636-7104.

EIS No. 040484, Draft EIS, NIH, TX, Galveston National Laboratory for Biodefense and Emerging Infectious Diseases Research Facility at the University of Texas Medical Branch, Construction, Partial Funding, Grant, Galveston, TX, Comment Period Ends: December 17, 2004, Contact: Valerie Nottingham (301) 496-7775.

EIS No. 040485, Draft EIS, AFS, CO, Vail Valley Forest Health Project, Proposal Landscape-Scale Vegetation Management and Fuels Reduction, White River National Forest, Holy Cross Ranger District, Eagle County, C0, Comment Period Ends: November 29, 2004, Contact: Peech Keller (970) 468-5400.

Dated: October 12, 2004.
Ken Mittelholtz,
Environmental Protection Specialist, Office of Federal Activities.

[FR Doc. 04-23152 Filed 10-14-04; 8:45 am]

BILLING CODE 6560-50-P